DEPARTMENT OF AGRICULTURE

Animal and Plant Health Inspection Service

[Docket No. 04-069-1]

Secretary's Advisory Committee on Foreign Animal and Poultry Diseases; Meeting

AGENCY: Animal and Plant Health Inspection Service, USDA.

ACTION: Notice of meeting.

SUMMARY: Pursuant to the Federal Advisory Committee Act (5 U.S.C. App. II), we are giving notice of a meeting of the Secretary's Advisory Committee on Foreign Animal and Poultry Diseases.

DATES: The meeting will be held on August 4 and 5, 2004, from 8 a.m. to 5 p.m.

ADDRESSES: The meeting will be held in the Conference Center at the USDA Center at Riverside, 4700 River Road, Riverdale, MD.

Written statements on the meeting topic may be sent to Dr. Joseph Annelli, Director Outreach/Liaison, Emergency Management, APHIS, 4700 River Road Unit 41, Riverdale, MD 20737-1231.

FOR FURTHER INFORMATION CONTACT: Dr. Joseph Annelli, Director Outreach/Liaison, Emergency Management, APHIS, 4700 River Road Unit 41, Riverdale, MD 20737-1231; (301) 734-8073.

SUPPLEMENTARY INFORMATION: The Secretary's Advisory Committee on Foreign Animal and Poultry Diseases (the Committee) advises the Secretary of Agriculture on actions necessary to prevent the introduction of foreign diseases of livestock and poultry into the United States. In addition, the Committee advises the Secretary on contingency planning and on maintaining a state of preparedness to deal with these diseases, if introduced.

The Committee will meet in Riverdale, MD, on August 4-5, 2004, to discuss issues related to bovine spongiform encephalopathy (BSE) and the national animal identification system.

The meeting will be open to the public, and any member of the public may file a written statement. However, due to the time constraints, only Committee members will be allowed to participate in the Committee's discussions.

You may file written statements on meeting topics with the Committee before or after the meeting. You may also file written statements at the time of the meeting. Please refer to Docket No. 04-069-1 when submitting your statements.

Parking and Security Procedures

Please note that a fee of $2.25 is required to enter the parking lot at the USDA Center. The machine accepts $1 bills and quarters.

Upon entering the building, visitors should inform security personnel that they are attending the Advisory Committee Meeting on Foreign Animal and Poultry Diseases. Identification is required. Visitor badges must be worn at all times while inside the building.

Done in Washington, DC, this 13th day of July 2004.
W. Ron DeHaven,
Administrator, Animal and Plant Health Inspection Service.

[FR Doc. 04-16278 Filed 7-15-04; 8:45 am]

BILLING CODE 3410-34-P